DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

SAMHSA Application for Peer Grant Reviewers (OMB No. 0930-0255, revision)—Section 501(h) of the Public Health Service (PHS) Act [42 U.S.C. 290aa] directs the Administrator of the Substance Abuse and Mental Health Services Administration (SAMHSA) to establish such peer review groups as are needed to carry out the requirements of Title V of the PHS Act. SAMHSA administers a large discretionary grants program under authorization of Title V, and for many years SAMHSA has funded grants to provide prevention and treatment services related to substance abuse and mental health.

SAMHSA efforts to make improvements in the grants process have been shown by the restructuring of discretionary award announcements. In support of these efforts, SAMHSA desires to expand the types of reviewers it uses on these grant review committees. To accomplish that end, SAMHSA has determined that it is important to proactively seek the inclusion of new and qualified representatives on its peer review groups, and accordingly SAMHSA has developed an application form for use by individuals who wish to apply to serve as peer reviewers.

The application form has been developed to capture the essential information about the individual applicants. Although consideration was given to requesting a resume from interested individuals, it is essential to have specific information from all applicants about their qualifications; the most consistent method to accomplish this is completion of a standard form by all interested persons. SAMHSA will use the information about knowledge, education and experience provided on the applications to identify appropriate peer grant reviewers. Depending on their experience and qualifications, applicants may be invited to serve as either grant reviewers or review group chairpersons. Revisions are the addition of: a check item to identity the address to which grant applications to be reviewed should be mailed, and allowance for individuals who are consumers or family members of consumers to choose two rather than one professional affiliation. The following table shows the estimated annual response burden.

Number of respondents | Responses/respondent | Burden/response (hrs.) | Total burden hours
500 | 1 | 1.5 | 750

Written comments and recommendations concerning the proposed information collection should be sent by June 7, 2004, to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: April 30, 2004.
Anna Marsh,
Executive Officer, SAMHSA.

[FR Doc. 04-10424 Filed 5-6-04; 8:45 am]

BILLING CODE 4162-20-P